DEPARTMENT OF HOMELAND SECURITY

Transportation Security Administration

New Agency Information Collection Activity Under OMB Review: Pipeline System Operator Security Information

AGENCY: Transportation Security Administration, DHS.

ACTION: 30-day notice.

SUMMARY: The Transportation Security Administration (TSA) has forwarded the new Information Collection Request (ICR) abstracted below to the Office of Management and Budget (OMB) for review and approval under the Paperwork Reduction Act. The ICR describes the nature of the information collection and its expected burden. TSA published a Federal Register notice, with a 60-day comment period soliciting comments, of the following collection of information on July 29, 2009, 74 FR 37723. The collection involves the submission of contact information for the company's primary and alternate security manager and the telephone number of the security operations or control center, as well as data concerning pipeline security incidents.

In response to July 29, 2009 notice, TSA received four comments from industry stakeholders. Letters addressing their respective comments have been sent to each stakeholder. No comments were submitted regarding the submission of contact information for a pipeline company's primary and alternate security manager and the telephone number of the security operations or control center.

The primary focus of the comments received pertained to the reporting of security incidents and suspicious activity to the Transportation Security Operations Center (TSOC). Recommendations were made for TSA to clarify the intent of the incident reporting criteria and examples. As a result, TSA modified the Pipeline Security Guidelines to reflect TSA's desire to be notified of all incidents which are indicative of a deliberate attempt to disrupt pipeline operations or activities that could be precursors to such an attempt. Such information is necessary for TSA to fulfill its responsibilities as the lead Federal agency for pipeline security.

Several comments discussed the potential for duplicative reporting of security incidents to both the TSOC and the National Response Center (NRC). 49 CFR parts 191 and 195 mandate that pipeline operators report incidents involving the release of natural gas or hazardous liquids to the NRC. There is no requirement under these regulations to report suspicious activity. Additionally, based on 33 CFR part 101 facilities operating under the Maritime Transportation Security Act (MTSA) are required to report incidents and suspicious activity to the NRC. TSOC has coordinated with the NRC to obtain pipeline incident/suspicious activity reports that may be of concern to TSA in the event that a pipeline operator submits a report only to the NRC. However, the vast majority of events that TSA requests operators report would not fall into these categories. This is supported by the actual pipeline operator incident/suspicious activity reporting that TSA has observed over the past five years. Consequently, TSA believes that duplicative reporting, if it occurs, would be minimal.

DATES: Send your comments by September 15, 2010. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Joanna Johnson, Office of Information Technology, TSA-11, Transportation Security Administration, 601 South 12th Street, Arlington, VA 20598-6011; telephone (571) 227-3651; e-mail Joanna.Johnson@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Pipeline System Operator Security Information.

Type of Request: New collection.

OMB Control Number: Not yet assigned.

Form(s): NA.

Affected Public: Pipeline system operators.

Abstract: Under the Aviation and Transportation Security Act (ATSA) (Pub. L. 107-71, 115 Stat. 597 (November 19, 2001) and delegated authority from the Secretary of Homeland Security, pipeline transportation is a mode of transportation over which TSA has jurisdiction for security matters. As discussed in the draft Pipeline Security Guidelines, in order to execute its pipeline transportation security responsibilities, TSA requests that operators provide, on a voluntary basis, security manager and operations center contact information. Additionally, TSA seeks to be notified of all incidents that are indicative of a deliberate attempt to disrupt pipeline operations or activities that could be precursors to such an attempt.

Number of Respondents: 3,140.

Estimated Annual Burden Hours: An estimated 145 hours annually.

Issued in Arlington, Virginia, on August 10, 2010.
Joanna Johnson,
TSA Paperwork Reduction Act Officer, Office of Information Technology.

[FR Doc. 2010-20160 Filed 8-13-10; 8:45 am]

BILLING CODE 4910-05-P